DEPARTMENT OF COMMERCE

International Trade Administration

President's Advisory Council on Doing Business In Africa (PAC-DBIA)

AGENCY: U.S. Department of Commerce, International Trade Administration

ACTION: Notice of an Open Meeting of the President's Advisory Council on Doing Business in Africa

SUMMARY: The President's Advisory Council on Doing Business in Africa (Council) will meet to deliberate and adopt a report containing recommendations to the President on actions the United States Government could take to mitigate obstacles U.S. companies face in doing business in Kenya, Côte d'Ivoire, Ethiopia, and Ghana, countries the Council has identified as holding particular promise of business opportunities for U.S. companies. The report of recommendations will be a follow-up to the Council's report of analysis adopted on November 29, 2017, which identified the top issues U.S. companies face in approaching African markets for the first time, competing for business opportunities on the continent, and executing business operations. The final agenda for the meeting will be posted at least one week in advance of the meeting on the Council's website at http://trade.gov/pac-dbia.

DATES: April 18, 2018, 3:00 p.m. (EDT).

ADDRESSES: The President's Advisory Council on Doing Business in Africa meeting will be broadcast via live webcast on the internet at http://whitehouse.gov/live.

FOR FURTHER INFORMATION CONTACT: Giancarlo Cavallo or Ashley Bubna, Designated Federal Officers, President's Advisory Council on Doing Business in Africa, Department of Commerce, 1401 Constitution Ave. NW, Room 22004, Washington, DC, 20230, telephone: 202-482-2091, email: dbia@trade.gov.

SUPPLEMENTARY INFORMATION:

Background: The Council was established on November 4, 2014, to advise the President, through the Secretary of Commerce, on strengthening commercial engagement between the United States and Africa. The Council's charter was renewed most recently in September 2017 for a two-year term. The Council was established in accordance with the provisions of the Federal Advisory Committee Act (FACA), as amended, 5 U.S.C. App.

Public Submissions: The public is invited to submit written statements to the Council. Statements must be received by 5:00 p.m. EDT April 11, 2018 by either of the following methods:

a. Electronic Submissions: Submit statements electronically to Giancarlo Cavallo and Ashley Bubna, Designated Federal Officers, President's Advisory Council on Doing Business in Africa, via email: dbia@trade.gov.

b. Paper Submissions: Send paper statements to Giancarlo Cavallo and Ashley Bubna, Designated Federal Officers, President's Advisory Council on Doing Business in Africa, Department of Commerce, 1401 Constitution Ave. NW, Room 22004, Washington, DC 20230.

Statements will be provided to the members in advance of the meeting for consideration and also will be posted on the Council website (http://trade.gov/pac-dbia). Any business proprietary information should be clearly designated as such. All statements received, including attachments and other supporting materials, are part of the public record and subject to public disclosure.

Meeting minutes: Copies of the Council's meeting minutes will be available within ninety (90) days of the meeting on the Council's website at http://trade.gov/pac-dbia.

Dated: March 27, 2018.
Fred Stewart,
Director, Office of Africa.

[FR Doc. 2018-06477 Filed 3-30-18; 8:45 am]

BILLING CODE 3510-DR-P